DEPARTMENT OF DEFENSE

Office of the Secretary

Proposed Collection; Comment Request

AGENCY: Office of the Under Secretary of Defense for Acquisition, Technology, and Logistics, Department of Defense.

ACTION: Notice.

In compliance with section 35006(c)(2)(A) of the Paperwork Reduction Act of 1995, the Under Secretary of Defense for Acquisition, Technology, and Logistics announces the proposed extension of a public information collection and seeks public comment on the provisions thereof. Comments are invited on: (a) Whether the proposed collection of information is necessary for the proper performance of the functions of the agency, including whether the information shall have practical utility; (b) the accuracy of DoD's estimate of the burden of the proposed information collection; (c) ways to enhance the quality, utility, and clarity of the information to be collected; and (d) ways to minimize the burden of the information collection on respondents, including through the use of automated collection techniques or forms of information technology.

DATES: Consideration will be given to all comments received by January 28, 2003.

ADDRESSES: Written comments and recommendations on the proposed information collection should be sent to the Defense Standardization Program Office (DSPO), Defense Logistics Agency, J-307, Attention: Ms. Karen Bond, 8725 John J. Kingman Road, STOP 6233, Fort Belvoir, VA 22060-6221; telephone: (703) 767-6871.

FOR FURTHER INFORMATION CONTACT: To request more information on this proposed information collection or to obtain a copy of the proposal and associated collection instruments, please contact the Defense Standardization Program Office (DSPO) at (703) 767-6871.

Title, Associated Forms, and OMB Number: Acquisition Management Systems and Data Requirements Control List (AMSDL); Numerous Forms; 0704-0188.

Needs and Uses: The Acquisition Management Systems and Data Requirements Control List (AMSDL) is a list of data requirements used in Department of Defense (DoD) contracts. The information collected will be used by DoD personnel and other DoD contractors to support the design, test, manufacture, training, operation, and maintenance of procured items, including weapons systems critical to the national defense.

Notice: The Acquisition Management Systems and Data Requirements Control List (AMSDL) will be canceled once reference to it has been removed from the Defense Federal Acquisition Regulation. The data item descriptions listed in the AMSDL will be listed in the Department of Defense Index of Specifications and Standards (DoDISS). The extension of this information collection will be revised when the AMSDL has been canceled.

Affected Public: Business or Other For-Profit; Not-For-Profit Institutions.

Annual Burden Hours: 52,628,400.

Number of Respondents: 886.

Responses per Respondent: 540.

Average Burden per Response: 110 hours.

Frequency: On occasion.

SUPPLEMENTARY INFORMATION:

Summary of Information Collection

The Acquisition Management Systems and Data Requirements Control List (AMSDL) is a list of data requirements used in Department of Defense contracts. Information collection requests are contained in DoD contract actions for supplies, services, hardware, and software. This information is collected and used by DoD and its component Military Departments and Agencies to support the design, test, manufacture, training, operation, maintenance, and logistical support of procured items, including weapons systems. The collection of such data is essential to accomplishing the assigned mission of the Department of Defense. Failure to collect this information would have a detrimental effect on the DoD acquisition programs and the National Security.

Dated: November 18, 2002.
Patricia L. Toppings,
Alternate OSD Federal Register Liaison Officer, Department of Defense.

[FR Doc. 02-30276 Filed 11-27-02; 8:45 am]

BILLING CODE 5001-08-M